DEPARTMENT OF THE INTERIOR

Fish and Wildlife Service

50 CFR Part 17

[Docket No. FWS-R1-ES-2014-0025; 4500030113]

Endangered and Threatened Wildlife and Plants; 90-Day Finding on a Petition To List the Island Marble Butterfly as an Endangered Species; Correction

AGENCY: Fish and Wildlife Service, Interior.

ACTION: Notice of petition finding; correction.

SUMMARY: We, the U.S. Fish and Wildlife Service, published a 90-day finding in the Federal Register on August 19, 2014, determining that a petition to list the island marble butterfly (Euchloe ausonides insulanus) as an endangered species under the Endangered Species Act of 1973, as amended, presented substantial information indicating listing may be warranted. We promptly initiated a status review and requested information on the species from any interested parties. We made an error in the requested deadline for information submission. With this document, we correct the error.

DATES: The requested deadline for information submission in the petition finding published on August 19, 2014 (79 FR 49045), is corrected in this document. To allow us adequate time to conduct the status review, we request that we receive information on or before April 6, 2015. After April 6, 2015, you must submit information by U.S. mail or hand-delivery to the U.S. Fish and Wildlife Service (see ADDRESSES, below). Please note that we might not be able to address or incorporate information that we receive after the above requested date.

ADDRESSES: You may submit information by one of the following methods:

(1) Electronically: Go to the Federal eRulemaking Portal: http://www.regulations.gov. In the Search box, enter docket number FWS-R1-ES-2014-0025. You may submit information by clicking on “Comment Now!” If your information will fit in the provided comment box, please use this feature of http://www.regulations.gov, as it is most compatible with our information review procedures. If you attach your information as a separate document, our preferred file format is Microsoft Word. If you attach multiple comments (such as form letters), our preferred format is a spreadsheet in Microsoft Excel.

(2) By U.S. mail or hand-delivery: Public Comments Processing, Attn: FWS-R1-ES-2014-0025; U.S. Fish and Wildlife Service, MS: BPHC; 5275 Leesburg Pike; Falls Church, VA 22041-3803.

We request that you send information only by the methods described above. We will post all comments on http://www.regulations.gov. This generally means that we will post any personal information you provide us.

FOR FURTHER INFORMATION CONTACT: Eric Rickerson, Washington Fish and Wildlife Office, 510 Desmond Drive, Lacey, WA 98503; telephone 360-753-9440; facsimile 360-534-9331. Persons who use a telecommunications device for the deaf (TDD) may call the Federal Information Relay Service (FIRS) at 800-877-8339.

SUPPLEMENTARY INFORMATION: We published a 90-day finding in the Federal Register on August 19, 2014 (79 FR 49045), on a petition to list the island marble butterfly (Euchloe ausonides insulanus) as an endangered species under the Endangered Species Act of 1973, as amended (16 U.S.C. 1531 et seq.). When we make such a finding that a petition presents substantial information indicating that listing a species may be warranted, we are required to promptly review the status of the species (status review; also commonly referred to as a “12-month finding”). For the status review to be complete and based on the best available scientific and commercial data, we requested information on the island marble butterfly from governmental agencies, Native American tribes, the scientific community, industry, and any other interested parties. However, in the 90-day finding, we incorrectly stated the requested deadline for information submission was December 31, 2016. The correct date by which we request that the public submit information is listed above in the DATES section of this document. Please see the August 19, 2014 (79 FR 49045), publication for details on the items for which we request information.

Authority

The authority for this action is the Endangered Species Act of 1973, as amended (16 U.S.C. 1531 et seq.).

Dated: January 27, 2015.
James W. Kurth,
Acting Director, U.S. Fish and Wildlife Service.

[FR Doc. 2015-02063 Filed 2-2-15; 8:45 am]

BILLING CODE 4310-55-P